DEPARTMENT OF TRANSPORTATION

Federal Railroad Administration

[Docket Number FRA-2017-0083]

Petition for Waiver of Compliance

The Federal Railroad Administration (FRA) is providing notice that on August 16, 2017, the Yadkin Valley Railroad submitted an Informational Filing (IF) pursuant to Title 49 Code of Federal Regulations (CFR) § 236.913(j). This submission was assigned docket number FRA-2017-0083.

The YVRR submitted an IF requesting FRA approval to conduct field testing of a Train Detection System supplied by Next Generation Rail Technologies S.L. (NGRT) at Bethania Road highway-rail crossing in Rural Hall, North Carolina. YVRR estimates that once installed, it will take seven days to configure the system to current rail traffic. After installation of the system, the proposed period of data collection will be approximately four months. YVRR asserts that its IF addresses all requirements of 49 CFR 236.913(j)(1), and that the system will be operating in shadow mode only to collect data, and will not interfere, impact, or communicate with the current signaling system.

A copy of the IF and any related documents have been placed in docket number FRA-2017-0083 and are available for public inspection online at www.regulations.gov and in person at the Department of Transportation's Docket Operations Facility, 1200 New Jersey Ave. SE., W12-140, Washington, DC 20590. The Docket Operations Facility is open from 9 a.m. to 5 p.m., Monday through Friday, except Federal Holidays.

Robert C. Lauby,
Associate Administrator for Railroad Safety, Chief Safety Officer.

[FR Doc. 2017-19686 Filed 9-15-17; 8:45 am]

BILLING CODE 4910-06-P